DEPARTMENT OF COMMERCE

Bureau of Economic Analysis

[Docket No. 160303193-6193-01]

XRIN: 0691-XC042

BE-29: Annual Survey of Foreign Ocean Carriers' Expenses in the United States

AGENCY: Bureau of Economic Analysis, Commerce.

ACTION: Notice of reporting requirements.

SUMMARY: By this Notice, the Bureau of Economic Analysis (BEA), Department of Commerce, is informing the public that it is conducting the mandatory survey titled Annual Survey of Foreign Ocean Carriers' Expenses in the United States (BE-29). This survey is authorized by the International Investment and Trade in Services Survey Act.

SUPPLEMENTARY INFORMATION: This Notice constitutes legal notification to all U.S. persons (defined below) who meet the reporting requirements set forth in this Notice that they must respond to, and comply with, the BE-29. Reports are due 90 days after the end of each calendar year. This notice is being issued in conformance with the rule BEA issued in 2012 (77 FR 24373) establishing guidelines for collecting data on international trade in services and direct investment through notices, rather than through rulemaking. Additional information about BEA's collection of data on international trade in services and direct investment can be found in the 2012 rule, the International Investment and Trade in Services Survey Act (22 U.S.C. 3101 et seq.), and 15 CFR part 801. Survey data on international trade in services and direct investment that are not collected pursuant to the 2012 rule are described separately in 15 CFR part 801. The BE-29 survey form and instructions are available on the BEA Web site at www.bea.gov/ssb.

Definitions

(a) Person means any individual, branch, partnership, associated group, association, estate, trust, corporation, or other organization (whether or not organized under the laws of any State), and any government (including a foreign government, the U.S. Government, a State or local government, and any agency, corporation, financial institution, or other entity or instrumentality thereof, including a government-sponsored agency).

(b) U.S. person means any person resident in the United States or subject to the jurisdiction of the United States.

(c) United States, when used in a geographic sense, means the 50 States, the District of Columbia, the Commonwealth of Puerto Rico, and all territories and possessions of the United States.

(d) Foreign person means any person resident outside the United States or subject to the jurisdiction of a country other than the United States.

(e) Carriers means owners or operators of dry cargo, passenger (including cruise and combination) and tanker vessels, including very large crude carriers (VLCCs), calling at U.S. ports.

(f) Foreign Carriers means those carriers whose residence is outside the United States, including those who own or operate their own chartered (U.S.-flag or foreign-flag) vessels. They also include foreign subsidiaries of U.S. companies operating their own or chartered vessels as carriers for their own accounts.

Reporting

Notice of specific reporting requirements, including who is to report, the information to be reported, the manner of reporting, and the time and place of filing reports, will be mailed to those required to complete this survey.

Who Must Report: (a) Reports are required from U.S. agents of foreign carriers who handle 40 or more port calls in the reporting period by foreign ocean vessels, or have total annual covered expenses for all foreign ocean vessels handled by the U.S. agent of $250,000 or more.

(b) Entities required to report will be contacted individually by BEA. Entities not contacted by BEA have no reporting responsibilities.

What to Report: This survey collects information on foreign ocean carriers' expenses in the United States.

How to Report: Reports can be filed using BEA's electronic reporting system at www.bea.gov/efile. Copies of the survey forms and instructions, which contain complete information on reporting procedures and definitions, can be downloaded from the BEA Web site given above. Form BE-29 inquiries can be made by phone to BEA at (202) 606-5588 or by sending an email to be29help@bea.gov.

When To Report: Reports are due to BEA 90 days after the end of each calendar year.

Paperwork Reduction Act Notice

This data collection has been approved by the Office of Management and Budget (OMB) in accordance with the Paperwork Reduction Act and assigned control number 0608-0012. An agency may not conduct or sponsor, and a person is not required to respond to, a collection of information unless it displays a valid control number assigned by OMB. Public reporting burden for this collection of information is estimated to average 3 hours per response. Additional information regarding this burden estimate may be viewed at www.reginfo.gov; under the Information Collection Review tab, click on “Search” and use the above OMB control number to search for the current survey instrument. Send comments regarding this burden estimate to Director, Bureau of Economic Analysis (BE-1), U.S. Department of Commerce, Washington, DC 20230; and to the Office of Management and Budget, Paperwork Reduction Project 0608-0012, Washington, DC 20503.

Authority: 22 U.S.C. 3101-3108.

Brian C. Moyer,
Director, Bureau of Economic Analysis.

[FR Doc. 2016-07462 Filed 4-1-16; 8:45 am]

BILLING CODE 3510-06-P